UNITED STATES INSTITUTE OF PEACE

Notice of Meeting

Date/Time: Tuesday, September 7, 2004, 2 p.m.-4 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: Building Project, Plans for the September 17 Board Meeting; Other General Issues.

Contact: Tessie Higgs, Executive Office, Telephone (202) 429-3836

Dated: August 30, 2004.
Harriet Hentges,
Executive Vice President, United States Institute of Peace.

[FR Doc. 04-20098 Filed 8-31-04; 8:45 am]

BILLING CODE 6820-AR-M